PENSION BENEFIT GUARANTY CORPORATION

Submission of Information Collection for OMB Review; Comment Request; Reportable Events

AGENCY: Pension Benefit Guaranty Corporation.

ACTION: Notice of request for extension of OMB approval of a currently approved collection (with modifications).

SUMMARY: The Pension Benefit Guaranty Corporation (PBGC) is requesting that the Office of Management and Budget (OMB) extend approval, under the Paperwork Reduction Act, of the collection of information (with modifications) under subparts A, B, and C of Part 4043 of its regulations on Reportable Events and Certain Other Notification Requirements (OMB control number 1212-0013; expires February 28, 2009). This notice informs the public of PBGC's request and solicits public comment on the collection of information.

DATES: Comments must be submitted by February 26, 2009.

ADDRESSES: Comments should be sent to the Office of Information and Regulatory Affairs, Office of Management and Budget, Attention: Desk Officer for Pension Benefit Guaranty Corporation, via electronic mail at OIRA_DOCKET@omb.eop.gov or by fax to 202-395-6974.

Copies of the collection of information and comments may be obtained without charge by writing to the Disclosure Division, Office of General Counsel, 1200 K St., NW., Washington, DC 20005-4026, or by visiting the Disclosure Division or calling 202-326-4040 during normal business hours. (TTY and TDD users may call the Federal relay service toll-free at 1-800-877-8339 and ask to be connected to 202-326-4040.) The reportable events regulation, forms, and instructions may be accessed on PBGC's Web site at http://www.pbgc.gov.

FOR FURTHER INFORMATION CONTACT: James Bloch, Program Analyst, Legislative and Policy Division, or Catherine B. Klion, Manager, Regulatory and Policy Division, Legislative and Regulatory Department, Pension Benefit Guaranty Corporation, 1200 K Street, NW., Washington, DC 20005-4026; 202-326-4024. (For TTY/TDD users, call the Federal relay service toll-free at 1-800-877-8339 and ask to be connected to 202-326-4024.)

SUPPLEMENTARY INFORMATION: Section 4043 of the Employee Retirement Income Security Act of 1974 (ERISA) requires plan administrators and plan sponsors to report certain plan and employer events to PBGC. The reporting requirements give PBGC notice of events that indicate plan or employer financial problems. PBGC uses the information provided in determining what, if any, action it needs to take. For example, PBGC might need to institute proceedings to terminate a plan (placing it in trusteeship) under section 4042 of ERISA to ensure the continued payment of benefits to plan participants and their beneficiaries or to prevent unreasonable increases in its losses.

The forms and instructions have been revised to remove information that is no longer applicable in light of changes made by the Pension Protection Act of 2006 and to refer to interim guidance issued by PBGC.

The collection of information under the regulation has been approved through February 28, 2009, by OMB under control number 1212-0013. PBGC is requesting that OMB extend approval of the collection (with modifications) for another three years. An agency may not conduct or sponsor, and a person is not required to respond to, a collection of information unless it displays a currently valid OMB control number.

PBGC estimates that it will receive 637 reportable events per year under this collection of information. PBGC further estimates that the average annual burden of this collection of information is 2,676 hours and $936,600.

Issued in Washington, DC, this 21st day of January 2009.
John H. Hanley,
Director, Legislative and Regulatory Department, Pension Benefit Guaranty Corporation.

[FR Doc. E9-1790 Filed 1-26-09; 8:45 am]

BILLING CODE 7709-01-P